ENVIRONMENTAL PROTECTION AGENCY

[FRL-7209-5]

Availability of “Allocation of Fiscal Year 2002 Operator Training Grants”

AGENCY: Environmental Protection Agency (EPA).

ACTION: Notice of document availability.

SUMMARY: EPA is announcing availability of a memorandum entitled “Allocation of Fiscal Year 2002 Operator Training Grants” issued on April 23, 2002. This memorandum provides National guidance for the allocation of funds used under section 104(g)(l) of the Clean Water Act. Each grant recipient will receive a copy of this document from EPA.

ADDRESSES: See SUPPLEMENTARY INFORMATION section for electronic access of the guidance memorandum.

FOR FURTHER INFORMATION CONTACT: Gary Hudiburgh. (202) 564-0626 or hudiburgh.gary@epa.gov.

SUPPLEMENTARY INFORMATION: The subject memorandum may be viewed and downloaded from EPA's homepage, http://www.epa.gov/owm/mab/owm0320.pdf.

Dated: April 26, 2002.
James A. Hanlon,
Director, Office of Wastewater Management.

[FR Doc. 02-11653 Filed 5-8-02; 8:45 am]

BILLING CODE 6560-50-P